ENVIRONMENTAL PROTECTION AGENCY

[ER-FRL-9041-7]

Environmental Impact Statements; Notice of Availability

Responsible Agency: Office of Federal Activities, General Information (202) 564-5632 or https://www.epa.gov/nepa/.

Weekly receipt of Environmental Impact Statements

Filed 10/01/2018 Through 10/05/2018

Pursuant to 40 CFR 1506.9.

Notice

Section 309(a) of the Clean Air Act requires that EPA make public its comments on EISs issued by other Federal agencies. EPA's comment letters on EISs are available at: https://cdxnodengn.epa.gov/cdx-enepa-public/action/eis/search.

EIS No. 20180233, Final, EPA, AK, ADOPTION—Liberty Development and Production Plan Beaufort Sea, Alaska Final Environmental Impact Statement, Contact: Erin Seyfried 206-553-1448

The Environmental Protection Agency (EPA) has adopted the Bureau of Ocean and Energy Management's Final EIS No. 2018019, filed 08/22/2018 with the EPA. The EPA was a cooperating agency on this project. Therefore, recirculation of the document is not necessary under Section 1506.3(c) of the CEQ regulations.

EIS No. 20180234, Draft, BLM, NV, Deep South Expansion Project, Comment Period Ends: 11/26/2018, Contact: Kevin Hurrell 775-635-4000

EIS No. 20180235, Draft, USACE, VA, Draft Integrated City of Norfolk Coastal Storm Risk Management Feasibility Study, Comment Period Ends: 11/26/2018, Contact: Kathy Perdue 757-201-7218

EIS No. 20180236, Final, USFS, MN, HiLo Project, Review Period Ends: 11/26/2018, Contact: Linda Merriman 218-365-2095

EIS No. 20180237, Final, USACE, AZ, Little Colorado River at Winslow, Navajo County, Arizona, Flood Risk Management Project, Integrated Feasibility Report and Environmental Impact Statement, Review Period Ends: 11/13/2018, Contact: Kirk C. Brus 213-452-3876

EIS No. 20180238, Final, FHWA, UT, S.R. 30, S.R. 23 to 1000 West, Contact: Naomi Kisen 801-965-4005

Pursuant to 23 U.S.C. 139(n)(2), FHWA has issued a single FEIS and ROD. Therefore, the 30-day wait/review period under NEPA does not apply to this action.

EIS No. 20180239, Draft, USACE, CA, Corte Madera Creek Flood Risk Management Project Draft EIS/EIR, Comment Period Ends: 11/27/2018, Contact: Cynthia Jo Fowler 415-503-6870

EIS No. 20180240, Final, NMFS, AK, ADOPTION—Atlantic Fleet Training and Testing, Contact: Donna S. Wieting 301-427-8400

The National Marine Fisheries Service (NMFS) has adopted the U.S. Department of Navy's Final EIS No. 20180210, filed 09/07/2018 with the EPA. NMFS was a cooperating agency on this project. Therefore, recirculation of the document is not necessary under Section 1506.3(c) of the CEQ regulations.

EIS No. 20180241, Final, FAA, AK, ADOPTION—Modernization and Enhancement of Ranges Airspace and Training Areas in the Joint Pacific Alaska Range Complex in Alaska, Contact: Paula Miller 202-267-7378

The Federal Aviation Administration (FAA) has adopted the U.S. Air Force's Final EIS No. 20130181, filed 06/20/2013 with the EPA. FAA was a cooperating agency on this project. Therefore, recirculation of the document is not necessary under Section 1506.3(c) of the CEQ regulations.

EIS No. 20180242, Final, FAA, GA, ADOPTION—Proposed Modernization and Expansion of Townsend Bombing Range, Contact: Paula Miller 202-267-7378

The Federal Aviation Administration (FAA) has adopted the U.S. Department of Navy's Final EIS No. 20130066 filed 03/14/2013 with the EPA. FAA was a cooperating agency on this project. Therefore, recirculation of the document is not necessary under Section 1506.3(c) of the CEQ regulations.

Amended Notices

EIS No. 20180207, Final, USACE, NE, Missouri River Recovery Management Plan, Review Period Ends: 11/09/2018, Contact: Tiffany Vanosdall 402-995-2695

Revision to FR Notice Published 09/28/2018; Extending the Review Period from 10/22/2018 to 11/09/2018.

Dated: October 9, 2018.
Robert Tomiak, Director,
Office of Federal Activities.

[FR Doc. 2018-22222 Filed 10-11-18; 8:45 am]

BILLING CODE 6560-50-P